DEPARTMENT OF ENERGY

Notice of Public Scoping Meetings for the FutureGen Project Environmental Impact Statement

AGENCY: National Energy Technology Laboratory, Department of Energy.

ACTION: Notice of public scoping meetings and opportunity for comment.

SUMMARY: On Friday, July 28, 2006, the U.S. Department of Energy (DOE) issued a Notice of Intent to prepare an Environmental Impact Statement for the proposed action of providing up to $700 million of Federal funding for the FutureGen Project (71 FR 42840). The FutureGen Project would comprise the planning, design, construction and operation by a private sector organization of a coal-fired electric power and hydrogen gas production plant integrated with carbon dioxide capture and geologic sequestration of the captured gas. DOE's National Energy Technology Laboratory (NETL) is hosting public scoping meetings near each of the four proposed FutureGen Project sites. Dates, locations, and information about the public scoping meetings are contained under SUPPLEMENTARY INFORMATION, below.

DATES: DOE invites comments on the proposed scope and content of the EIS from all interested parties. Comments must be received by September 13, 2006, to ensure consideration. Late comments will be considered to the extent practicable. DOE also invites members of the public to participate in public scoping meetings (see SUPPLEMENTARY INFORMATION) to learn more about the proposed FutureGen Project and provide oral comments on the alternatives and environmental issues to be considered.

ADDRESSES: Comments on the proposed scope of the EIS and requests for copies of the Draft EIS may be submitted by fax (304-285-4403), e-mail (FutureGen.EIS@netl.doe.gov), or a letter addressed to the NEPA Document Manager for the FutureGen Project: Mr. Mark L. McKoy, National Energy Technology Laboratory, U.S. Department of Energy, P.O. Box 880, Morgantown, WV 26507-0880, Attn: FutureGen Project EIS.

FOR FURTHER INFORMATION CONTACT: Comments or requests to participate in the public scoping process also can be submitted by contacting Mr. Mark L. McKoy directly at telephone 304-285-4426; toll free number 1-800-432-8330 (extension 4426); fax 304-285-4403; or e-mail FutureGen.EIS@netl.doe.gov.

SUPPLEMENTARY INFORMATION: NETL is hosting four public scoping meetings to present an overview of the proposed project and to provide the public with an opportunity to comment and ask questions. An informal session of the public scoping meetings will begin at approximately 4 p.m., followed by a formal session beginning at approximately 7 p.m. Members of the public who wish to speak at a public scoping meeting should contact Mr. Mark L. McKoy, either by phone, fax, e-mail, or in writing (see ADDRESSES in this Notice). Those who do not arrange in advance to speak may register at a meeting (preferably at the beginning of the meeting) and may speak after previously scheduled speakers. Speakers will be given approximately five minutes to present their comments. Those speakers who want more than five minutes should indicate the length of time desired in their request. Depending on the number of speakers, DOE may need to limit all speakers to five minutes initially and provide second opportunities as time permits. Speakers may also provide written materials to supplement their presentations. Oral and written comments will be given equal consideration. State and local elected officials and tribal leaders may be given priority in the order of those making oral comments.

DOE will begin each meeting with an overview of the proposed FutureGen Project. The meeting will not be conducted as an evidentiary hearing, and speakers will not be cross-examined. However, speakers may be asked questions to help ensure that DOE fully understands the comments or suggestions. A presiding officer will establish the order of speakers and provide any additional procedures necessary to conduct the meeting.

Meeting Schedule

Texas—Jewett

Date: Tuesday, August 22, 2006.

Time: 4 p.m. to 9 p.m.

Place: City of Fairfield's Green Barn (Fairgrounds Exhibits Bldg.) 839 E. Commerce, Fairfield, Texas 75840. This site is 2.5 miles East of I-45 on Hwy 84 (aka Commerce Street).

Texas—Odessa

Date: Thursday, August 24, 2006.

Time: 4 p.m. to 9 p.m.

Place: The CEED (Center for Energy and Economic Diversification) Building is located at 1400 North FM 1788 in Midland, Texas 79707.

Illinois—Tuscola

Date: Thursday, August 29, 2006.

Time: 4 p.m. to 9 p.m.

Place: Tuscola Community Building, 122 W. Central Avenue, Tuscola, IL 61953. (From Interstate 57, take exit 212 to U.S. Highway 36. The Tuscola Community Building is at the intersection of North Central Avenue and South Main Street.)

Illinois—Mattoon

Date: Thursday, August 31, 2006.

Time: 4 p.m. to 9 p.m.

Place: Riddle Elementary School, 4201 Western Avenue, Mattoon, IL. (Located at the corner of Western Avenue and 43rd Street (CR 300E).)

All meetings are accessible to people with disabilities. Any individual with a disability who requires special assistance, such as a sign language interpreter, or a translator, please contact Mr. Mark McKoy, U.S. DOE-NETL, toll free (800) 432-8330 ext. 4426, fax (304) 285-4403, or via e-mail at FutureGen.EIS@netl.doe.gov at least 48 hours in advance of the meeting so that arrangements can be made.

Additional information about FutureGen can be found at these Web sites: http://www.doe.gov; http://fossil.energy.gov/programs/powersystems/futuregen/; http://www.futuregenalliance.org.

Dated: August 1, 2006.
Mark J. Matarrese,
Director, Office of Environment, Security, Safety and Health.

[FR Doc. E6-12742 Filed 8-3-06; 8:45 am]

BILLING CODE 6450-01-P